SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before September 26, 2005.

ADDRESSES: Send all comments regarding whether this information collection is necessary for the proper performance of the function of the agency, whether the burden estimates are accurate, and if there are ways to minimize the estimated burden and enhance the quality of the collection, to Bruce Purdy, Financial Analyst, Office of Financial Assistance, Small Business Administration, 409 3rd Street SW., Suite 8300, Washington, DC 20416.

FOR FURTHER INFORMATION CONTACT: Bruce Purdy, Financial Analyst, 202-205-7532 bruce.purdy@sba.gov. Curtis B. Rich, Management Analyst, 202-205-7030 curtis.rich@sba.sba.

SUPPLEMENTARY INFORMATION:

Title: “PRIME (Program for Investment in Microentrepreneurs”.

Description of Respondents: Disadvantaged Microentrepreneurs.

Form No: N/A.

Annual Responses: 112.

Annual Burden: 224.

Jacqueline White,
Chief, Administrative Information Branch.

[FR Doc. 05-14642 Filed 7-25-05; 8:45 am]

BILLING CODE 8025-01-P